NATIONAL ARCHIVES AND RECORDS ADMINISTRATION

Nixon Presidential Historical Materials; Opening of Materials

AGENCY: National Archives and Records Administration (NARA).

ACTION: Notice of opening of materials.

SUMMARY: This notice announces the opening of additional files from the Nixon Presidential historical materials. Notice is hereby given that, in accordance with section 104 of Title I of the Presidential Recordings and Materials Preservation Act (“PRMPA”, 44 U.S. C. 2111 note) and 1275.42(b) of the PRMPA Regulations implementing the Act (36 CFR part 1275), NARA has identified, inventoried, and prepared for public access integral file segments among the Nixon Presidential historical materials. In addition, NARA is preparing for public access approximately 400 pages of documents among the Nixon Presidential materials that are responsive to a February 1, 1999 interagency memo from the National Security Council (NSC) to declassify and release documents concerning human rights abuses in Chile from 1968-1991.

DATES: Except with respect to the materials responsive to the NSC memo on Chile, NARA intends to make these materials described in this notice available to the public beginning June 30, 2000. In accordance with 36 CFR 1275.44, any person who believes it necessary to file a claim of legal right or privilege concerning access to these materials must notify the Archivist of the United States in writing of the claimed right, privilege, or defense before June 19, 2000. The Chile material will be released no sooner than 30 days after the date of publication, at times determined by the NSC.

ADDRESSES: The materials will be made available to the public at the National Archives at College Park research room, located at 8601 Adelphi Road, College Park, Maryland beginning at 8:45 a.m. on June 30, 2000. Researchers must have a NARA researcher card, which they may obtain when they arrive at the facility.

Petitions asserting a legal or constitutional right or privilege which would prevent or limit access must be sent to the Archivist of the United States, National Archives at College Park, 8601 Adelphi Road, College Park, Maryland 20740-6001.

FOR FURTHER INFORMATION CONTACT: Karl Weissenbach, Director, Nixon Presidential Materials Staff, 301-713-6950.

SUPPLEMENTARY INFORMATION: The integral file segments of textual materials to be opened on June 30, 2000, consist of 4 cubic feet.

The White House Central Files Unit is a permanent organization within the White House complex that maintains a central filing and retrieval system for the records of the President and his staff. Some of the materials are from the White House Central Files, Subject Files. The Subject Files are based on an alphanumerical file scheme of 61 primary categories. Listed below are the integral file segments from the White House Central Files, Subject Files in this opening.

Subject Category: Volume: 3 cubic feet.

Federal Government (FG):

FG 66 Administrative Conference of the United States

FG 70 Advisory Commission on Postal Distribution Service

FG 71 Advisory Council on Historic Preservation

FG 73 American Battle Monuments Commission

FG 74 American Red Cross

FG 91 Commission on Executive, Legislative, and Judicial Salaries

FG 92 Commission on Fine Arts

FG 96 Commission on Presidential Scholars

FG 97 Commission to Study Mortgage Interest Rates

FG 98 Commission on Economic Development

FG 99 Committee on Population and Family Planning

Public access to some of the items in the file segments listed in this notice will be restricted as outlined in 36 CFR 1275.50 or 1275.52 (Public Access Regulations).

In response to the February 1, 1999, interagency memo from the National Security Council, documents concerning human rights abuses located among the Nixon Presidential materials previously classified will be made available at times determined by the NSC.

Additionally, other documents which were previously withheld from public access have been reviewed and/ or declassified under the Mandatory Review provisions of Executive Order 12958 and will be made available.

Previously restricted materials: Volume: 1 cubic feet.

Dated: May 12, 2000.
John W. Carlin,
Archivist of the United States.

[FR Doc. 00-12493 Filed 5-17-00; 8:45 am]

BILLING CODE 7515-01-P